DEPARTMENT OF ENERGY

Federal Energy Regulatory Commission

[Project No. 2237-036]

Georgia Power Company; Notice of Intent To Prepare an Environmental Assessment

On August 1, 2025, Georgia Power Company filed an application for non-project use of project lands and waters to establish a commercial dredging operation for the Morgan Falls Hydroelectric Project No. 2237. The project is located on the Chattahoochee River in Cobb and Fulton counties, Georgia. The project occupies federal lands administered by the National Park Service.

The licensee submitted a request on behalf of River Sand Incorporated to allow the use and occupancy of lands and waters inside the project boundary for the purpose of establishing a commercial dredging operation at the previous location of Ace Sand. The operation would remove a minimum of 12,000 cubic yards of sediment annually from an area 600-feet long by 100-feet wide (1.4 acres). The sediment will be dewatered with screens and gravity separation techniques and water from the dewatering device will be returned to the project reservoir. The sediment will be temporarily stockpiled on an adjacent upland site that is located outside of the project boundary and will be transported off-site when sold. A Notice of Application was issued on August 22, 2025. No comments were received.

This notice identifies Commission staff's intention to prepare an environmental assessment (EA) under the National Environmental Policy Act (42 U.S.C. 4321 et seq.) for the project.¹ Commission staff plans to issue an EA by February 27, 2026. Revisions to the schedule may be made as appropriate.

¹ The unique identification number for documents relating to this environmental review is EAXX-019-20-000-1762342110.

For public inquiries and assistance with making filings such as interventions, comments, or requests for rehearing, contact the Office of Public Participation at (202) 502-6595 or OPP@ferc.gov.

Any questions regarding this notice may be directed to Meghan Walker at 202-502-6168 or meghan.walker@ferc.gov.

(Authority: 18 CFR 2.1)

Dated: December 9, 2025.
Debbie-Anne A. Reese,
Secretary.

[FR Doc. 2025-22735 Filed 12-12-25; 8:45 am]

BILLING CODE 6717-01-P